DEPARTMENT OF COMMERCE

International Trade Administration

[A-570-036]

Certain Biaxial Integral Geogrid Products From the People's Republic of China: Extension of Final Determination of Antidumping Duty Investigation

AGENCY: Enforcement and Compliance, International Trade Administration, Department of Commerce.

SUMMARY: The Department of Commerce (“Department”) is extending the time limits for the final determination of the investigation of certain biaxial integral geogrid products (“geogrids”) from the People's Republic of China (“PRC”). The period of investigation (“POI”) is July 1, 2015, through December 31, 2015.

DATES: Effective December 16, 2016.

FOR FURTHER INFORMATION CONTACT: Susan Pulongbarit or Julia Hancock, AD/CVD Operations, Office V, Enforcement and Compliance, International Trade Administration, U.S. Department of Commerce, 1401 Constitution Avenue NW., Washington, DC 20230; telephone: (202) 482-4031 or (202) 482-1394, respectively.

SUPPLEMENTARY INFORMATION:

Background

The Department published the notice of initiation of this investigation on February 16, 2016.¹ On June 24, 2016, the companion countervailing duty (“CVD”) investigation of geogrids from the PRC published a notice aligning the final CVD determination with the final determination of the antidumping duty (“AD”) investigation in accordance with section 705(a)(1) of the Tariff Act of 1930, as amended (the “Act”), and 19 CFR 351.210(b)(4).² On August 22, 2016, the Department published the preliminary results of the AD investigation of geogrids from the PRC.³ In that notice, the Department partially extended the final determination, stating that the final determination would be issued no later than 120 days after the date of publication of the preliminary determination, pursuant to section 735(a)(2) of the Act. The final results are currently due no later than December 20, 2016.

¹ See Certain Biaxial Integral Geogrid Products From the People's Republic of China: Initiation of Less-Than-Fair-Value Investigation, 81 FR 7755 (February 16, 2016).

² See Countervailing Duty Investigation of Certain Biaxial Integral Geogrid Products From the People's Republic of China: Preliminary Determination and Alignment of Final Determination With Final Antidumping Duty Determination, 81 FR 41292 (June 24, 2016).

³ See Certain Biaxial Integral Geogrid Products From the People's Republic of China: Affirmative Preliminary Determination of Sales at Less Than Fair Value, Affirmative Determination of Critical Circumstances, in Part, and Postponement of Final Determination, 81 FR 56584 (August 22, 2016).

Postponement of Final Determination and Extension of Provisional Measures

Section 735(a)(2) of the Act provides that a final determination may be postponed until not later than 135 days after the date of the publication of the preliminary determination if, in the event of an affirmative preliminary determination, a request for such postponement is made by exporters who account for a significant proportion of exports of the subject merchandise, or in the event of a negative preliminary determination, a request for such postponement is made by Petitioners. 19 CFR 351.210(e)(2) requires that requests by respondents for postponement of a final antidumping determination be accompanied by a request for extension of provisional measures from a four-month period to a period not more than six months in duration.

On July 11, 2016, pursuant to 19 CFR 351.210(b) and (e), Taian Modern Plastic Co., Ltd. requested that, contingent upon an affirmative preliminary determination of sales at LTFV, the Department postpone the final determination and that provisional measures be extended to a period not to exceed six months.⁴

⁴ See Letter to the Secretary of Commerce from Taian Modern Plastic Co., Ltd., “Certain Biaxial Integral Geogrid Products from the People's Republic of China: Request to Extend Final Determination” (July 11, 2016).

Because the final determination is not fully extended, and in accordance with section 735(a)(2)(A) of the Act and 19 CFR 351.210(b)(2)(ii), because (1) our preliminary determination is affirmative; (2) the requesting exporters account for a significant proportion of exports of the subject merchandise; and (3) no compelling reasons for denial exist, we are fully postponing the final determination and extending the provisional measures. Accordingly, we will make our final determination no later than 135 days after the date of publication of the preliminary determination, pursuant to section 735(a)(2) of the Act.⁵ Therefore, the final results are now due no later than January 4, 2017.

⁵ See also 19 CFR 351.210(e).

We are issuing and publishing this notice in accordance with sections 733(f) of the Act.

Dated: December 12, 2016.
Paul Piquado,
Assistant Secretary for Enforcement and Compliance.

[FR Doc. 2016-30311 Filed 12-15-16; 8:45 am]

BILLING CODE 3510-DS-P